DEPARTMENT OF TRANSPORTATION

Federal Aviation Administration

Terrain Awareness and Warning System

AGENCY: Federal Aviation Administration, (DOT).

ACTION: Notice of availability and requests for public comment.

SUMMARY: This notice announces the availability of and request comments on a revised draft Technical Standard Order (TSO) C-151b, Terrain Awareness and Warning System. The draft TSO tells persons seeking a TSO authorization or letter of design approval what minimum performance standards (MPS) their terrain awareness and warning systems must meet to be identified with the applicable TSO marking.

DATES: Comments must identify the TSO file number and be received on or before June 29, 2002.

ADDRESSES: Send all comments on the proposed technical standard order to: Technical Programs and Continued Airworthiness Branch, AIR-120, Aircraft Engineering Division, Aircraft Certification Service—File No. TSO-C151b, Federal Aviation Administration, 800 Independence Avenue, SW., Washington, DC 20591. Or deliver comments to: Federal Aviation Administration, Room 815, 800 Independence Avenue, SW., Washington, DC 20591.

FOR FURTHER INFORMATION CONTACT: Ms. Bobbie J. Smith, Technical Programs and Continued Airworthiness Branch, AIR-120, Aircraft Engineering Division, Aircraft Certification Service, Federal Aviation Administration, 800 Independence Avenue, SW., Washington, DC 20591, Telephone (202) 267-9546.

Comments Invited

Interested persons are invited to comment on the proposed TSO listed in this notice by submitting such written data, views, or arguments as they desire to the above specified address. Comments received or the proposed technical standards order may be examined, before and after the comments closing date, in Room 815, FAA Headquarters Building (FOB-10A), 800 Independence Avenue, SW., Washington, DC 20591, weekdays except Federal holidays, between 8:30 a.m. and 4:40 p.m. All communications received on or before the closing date for comments special above will be considered by the Director of the Aircraft Certification Service before issuing the final TSO.

Background

This is revised TSO that sets forth minimum operational performance standards that a Terrain Awareness and Warning System (TAWS) equipment must meet to be identified with the TSO-C151b Class A, B, or C marking. This revision adds the requirements for a Class C designation.

The standards of this TSO apply to equipment intended to provide pilots and flight crews with both aural and visual alters to aid in preventing an inadvertent controlled flight into terrain (CFIT) accident. Class A and B TAWS equipment are required by 14 CFR Parts 91, 135, and 121. Class C equipment is intended for voluntary installations on aircraft not covered by the TAWS requirements in 14 CFR Parts 91, 135, and 121.

How To Obtain Copies

A copy of the proposed TSO--C151 may be obtained via the information contained in section title For FURTHER INFORMATION CONTACT. Copies of RTCA Document No. RTCA/DO-160D, “Environmental Conditions and Test Procedures for Airborne Equipment,” dated July 29, 1997, RTCA/DO-161A, Minimum Performance Standards—Airborne Ground Proximity Warning Equipment,” dated May 27, 1976, RTCA/DO-200A/EURCAE ED-76, “Standards for Processing Aeronautical Data,” dated September 18, 1998, and RTCA/DO-178B, “Software Considerations in Airborne Systems and Equipment Certification,” dated December 1, 1992, may be purchased from RTCA, Inc. 1828 L Street, NW., Suite 815, Washington, DC 20036.

Nancy Lane,
Acting Manager, Aircraft Engineering Division, Aircraft Certification Service.

[FR Doc. 02-8151 Filed 4-3-02; 8:45 am]

BILLING CODE 4910-13-M